FEDERAL COMMUNICATIONS COMMISSION

47 CFR Part 73

[DA 01-334; MM Docket No. 00-210; RM-9979]

Radio Broadcasting Services; Sonoita, AZ

AGENCY: Federal Communications Commission.

ACTION: Proposed rule; dismissal.

SUMMARY: This document dismisses a petition filed on behalf of Santa Cruz Broadcasting proposing the allotment of FM Channel 263A to Sonoita, Arizona, as that locality's first local aural transmission service. Petitioner withdrew its interest in pursuing the proposal. See 65 FR 67690, November 13, 2000.

ADDRESSES: Federal Communications Commission, Washington, DC 20554.

FOR FURTHER INFORMATION CONTACT: Nancy Joyner, Mass Media Bureau, (202) 418-2180.

SUPPLEMENTARY INFORMATION: This is a synopsis of the Commission's Report and Order, MM Docket No. 00-210, adopted January 31, 2001, and released February 9, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Federal Communications Commission.
John A. Karousos,
Chief, Allocations Branch, Policy and Rules Division, Mass Media Bureau.

[FR Doc. 01-4729 Filed 2-26-01; 8:45 am]

BILLING CODE 6712-01-U